DEPARTMENT OF ENERGY

Federal Energy Regulatory Commission

Combined Notice of Filings #1

Take notice that the Commission received the following electric corporate filings:

Docket Numbers: EC14-140-000.

Applicants: Dynegy Inc., Dighton Power, LLC, Elwood Energy LLC, EquiPower Resources Management, LLC, Kincaid Generation, L.L.C., Lake Road Generating Company, L.P., Liberty Electric Power, LLC, MASSPOWER, Milford Power Company, LLC, Richland-Stryker Generation LLC, Brayton Point Energy, LLC.

Description: Joint Application for Order Authorizing Acquisition and Disposition of Jurisdictional Facilities Under Section 203 of the Federal Power Act of Dynegy Inc., et. al.

Filed Date: 9/11/14.

Accession Number: 20140911-5190.

Comments Due: 5 p.m. ET 10/2/14.

Docket Numbers: EC14-141-000.

Applicants: Dynegy Resource I, LLC, Duke Energy Commercial Asset Management, Duke Energy Retail Sales, LLC.

Description: Joint Application for Order Authorizing Acquisition and Disposition of Jurisdictional Facilities Under Section 203 of the Federal Power Act of Dynegy Resource I, LLC, et. al.

Filed Date: 9/11/14.

Accession Number: 20140911-5191.

Comments Due: 5 p.m. ET 10/2/14.

Take notice that the Commission received the following electric rate filings:

Docket Numbers: ER10-2265-003; ER12-21-015; ER11-2211-004; ER11-2209-004; ER11-2210-004; ER11-2210-004; ER11-2207-004; ER11-2206-004; ER13-1150-002; ER13-1151-002; ER10-2783-010; ER10-2784-010; ER11-2855-014; ER10-2791-010; ER10-2333-003; ER14-1865-004; ER10-2792-010; ER14-1818-003; ER12-1238-003; ER10-2260-002; ER10-2261-002; ER10-2337-005; ER14-1668-001; ER14-1669-001; ER14-1674-001; ER14-1670-001; ER14-1671-001; ER14-1675-001; ER14-1673-001; ER14-1676-001; ER14-1677-001; ER14-1678-001; ER14-1679-001; ER14-1672-001; ER10-2795-010; ER10-2798-010; ER10-1575-008; ER10-2339-005; ER10-2338-005; ER10-2340-005; ER12-1239-003; ER10-2336-003; ER10-2335-003; ER10-2799-010; ER10-2801-010; ER10-2385-003; ER11-3727-010; ER10-2262-001; ER12-2413-008; ER11-2062-012; ER10-2346-004; ER10-2812-009; ER10-1291-013; ER10-2843-008; ER11-2508-011; ER11-2863-007; ER11-4307-012; ER10-2347-003; ER10-2348-003; ER12-1711-010; ER10-2350-003; ER10-2846-010; ER12-261-011; ER10-3223-004; ER10-2351-003; ER10-2875-010; ER10-2368-003; ER10-2352-003; ER10-2264-002; ER10-1581-012; ER10-2353-004; ER10-2876-010; ER10-2878-010; ER10-2354-004; ER10-2355-005; ER10-2879-010; ER10-2384-004; ER10-2383-004; ER10-2880-010; ER11-2107-003; ER11-2108-003; ER10-2888-012; ER13-1745-005; ER13-1803-006; ER13-1788-005; ER13-1789-005; ER13-1790-006; ER10-2896-010; ER10-2913-010; ER13-1791-004; ER13-1746-007; ER10-2914-012; ER13-1799-005; ER13-1801-005; ER13-1802-005; ER10-2916-010; ER10-2915-010; ER12-1525-010; ER12-2019-009; ER10-2266-001; ER12-2398-009; ER11-3459-009; ER10-2931-010; ER13-1965-006; ER10-2969-010; ER11-4351-005; ER11-4308-012; ER11-2805-011; ER10-3143-014; ER10-1580-012; ER10-2382-003; ER11-2856-014; ER10-2356-003; ER10-2357-003; ER13-2107-005; ER13-2020-005; ER13-2050-005; ER10-2358-003; ER11-2857-014; ER10-2359-003; ER10-2360-003; ER10-2369-003; ER10-2947-010; ER10-2381-003; ER10-2575-003; ER10-2361-003.

Applicants: NRG Power Marketing LLC, Agua Caliente Solar, LLC, Alta Wind I, LLC, Alta Wind II, LLC, Alta Wind III, LLC, Alta Wind V, LLC, Alta Wind X, LLC, Alta Wind XI, LLC, Arthur Kill Power LLC, Astoria Gas Turbine Power LLC, Avenal Park LLC, Bayou Cove Peaking Power, LLC, Bendwind, LLC, BETM Solutions LLC, Big Cajun I Peaking Power LLC, Boston Energy Trading and Marketing LLC, Broken Bow Wind, LLC, Cabrillo Power I LLC, Cabrillo Power II LLC,CL Power Sales Eight, L.L.C., Community Wind North 1 LLC, Community Wind North 10 LLC, Community Wind North 11 LLC, Community Wind North 2 LLC, Community Wind North 13 LLC, Community Wind North 15 LLC, Community Wind North 3 LLC, Community Wind North 5 LLC, Community Wind North 6 LLC, Community Wind North 7 LLC, Community Wind North 8 LLC, Community Wind North 9 LLC, Conemaugh Power LLC, Connecticut Jet Power LLC,CP Power Sales Nineteen, L.L.C.,CP Power Sales Twenty, L.L.C.,CP Power Sales Seventeen, L.L.C., Crofton Bluffs Wind, LLC, DeGreeff DP, LLC, DeGreeffpa, LLC, Devon Power LLC, Dunkirk Power LLC, Elkhorn Ridge Wind, LLC, El Segundo Energy Center LLC, El Segundo Power, LLC, Energy Alternatives Wholesale, LLC, Energy Plus Holdings LLC, Forward WindPower LLC, GenConn Devon LLC, GenConn Energy LLC, GenConn Middletown LLC, GenOn Energy Management, LLC, GenOn Mid-Atlantic, LLC, Green Mountain Energy Company, Groen Wind, LLC, High Plains Ranch II, LLC, Hillcrest Wind, LLC, Huntley Power LLC, Independence Energy Group LLC, Indian River Power LLC, Jeffers Wind 20, LLC, Keystone Power LLC, Laredo Ridge Wind, LLC, Larswind, LLC, Long Beach Generation LLC, Long Beach Peakers LLC, Lookout Windpower, LLC, Louisiana Generating LLC, Middletown Power LLC, Midway-Sunset Cogeneration Company, Midwest Generation, LLC, Montville Power LLC, Mountain Wind Power II, LLC, Mountain Wind Power, LLC,NEO Freehold-Gen LLC, North Community Turbines LLC, North Wind Turbines LLC, Norwalk Power LLC,NRG Bowline LLC,NRG California South LP,NRG Canal LLC,NRG Chalk Point LLC,NRG Delta LLC,NRG Energy Center Dover LLC,NRG Energy Center Paxton LLC,NRG Florida LP,NRG Marsh Landing LLC,NRG New Jersey Energy Sales LLC,NRG Potomac River LLC,NRG Power Midwest LP,NRG REMA LLC,NRG Rockford LLC,NRG Rockford II LLC,NRG Solar Alpine LLC,NRG Solar Avra Valley LLC,NRG Solar Blythe LLC,NRG Solar Borrego I LLC,NRG Solar Roadrunner LLC,NRG Sterlington Power LLC,NRG Wholesale Generation LP, Oswego Harbor Power LLC, Pinnacle Wind, LLC, Reliant Energy Northeast LLC,RRI Energy Services, LLC, Sabine Cogen, LP, Saguaro Power Company, a Limited Partner, San Juan Mesa Wind Project, LLC, Sand Drag LLC, Sierra Wind, LLC, Sleeping Bear, LLC, Solar Partners I, LLC, Solar Partners II, LLC, Solar Partners VIII, LLC, Storm Lake Power Partners I LLC, Sun City Project LLC, Sunrise Power Company, LLC,TAIR Windfarm, LLC, Taloga Wind, LLC, Vienna Power LLC, Walnut Creek Energy, LLC, Watson Cogeneration Company, Wildorado Wind, LLC, Alta Wind IV, LLC, CottonWood Energy Company LP, High Lonesome Mesa, LLC.

Description: Notice of Non-Material Change in Status of NRG Power Marketing, LLC, et. al.

Filed Date: 9/11/14.

Accession Number: 20140911-5197.

Comments Due: 5 p.m. ET 10/2/14.

Docket Numbers: ER14-2821-001.

Applicants: Spring Canyon Energy III LLC.

Description: Tariff Amendment per 35.17(b): Supplement to Market-Based Rate Application to be effective 10/20/2014.

Filed Date: 9/10/14.

Accession Number: 20140910-5059.

Comments Due: 5 p.m. ET 10/1/14.

Docket Numbers: ER14-2830-000.

Applicants: FPL Energy Marcus Hook, L.P.

Description: Compliance filing per 35: FPL Energy Marcus Hook, L.P. Order No. 784 Compliance Filing to be effective 9/11/2014.

Filed Date: 9/10/14.

Accession Number: 20140910-5184.

Comments Due: 5 p.m. ET 10/1/14.

Docket Numbers: ER14-2853-000.

Applicants: PJM Interconnection, L.L.C.

Description: Tariff Withdrawal per 35.15: Notice of Cancellation of Service Agreement No. 3090; Queue No. W1-105 to be effective 10/9/2014.

Filed Date: 9/11/14.

Accession Number: 20140911-5178.

Comments Due: 5 p.m. ET 10/2/14.

Docket Numbers: ER14-2854-000.

Applicants: PJM Interconnection, L.L.C.

Description: Tariff Withdrawal per 35.15: Notice of Cancellation of Service Agreement No. 3091; Queue No. W1-106 to be effective 10/9/2014.

Filed Date: 9/11/14.

Accession Number: 20140911-5179.

Comments Due: 5 p.m. ET 10/2/14.

Docket Numbers: ER14-2855-000.

Applicants: Pacific Gas and Electric Company.

Description: § 205(d) rate filing per 35.13(a)(2)(iii): Spicer Meadows Power House WPA to be effective 9/12/2014.

Filed Date: 9/11/14.

Accession Number: 20140911-5180.

Comments Due: 5 p.m. ET 10/2/14.

Docket Numbers: ER14-2856-000.

Applicants: Southern California Edison Company.

Description: § 205(d) rate filing per 35.13(a)(2)(iii): True-Up LGIA with Blythe Energy, LLC to be effective 11/12/2014.

Filed Date: 9/12/14.

Accession Number: 20140912-5001.

Comments Due: 5 p.m. ET 10/3/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2014.
Nathaniel J. Davis, Sr.,
Deputy Secretary.

[FR Doc. 2014-22389 Filed 9-18-14; 8:45 am]

BILLING CODE 6717-01-P